NATIONAL ARCHIVES AND RECORDS ADMINISTRATION

[NARA-2014-005]

Advisory Committee on the Records of Congress; Meeting

AGENCY: National Archives and Records Administration.

ACTION: Notice of meeting.

SUMMARY: In accordance with the Federal Advisory Committee Act, the National Archives and Records Administration (NARA) announces a meeting of the Advisory Committee on the Records of Congress. The committee advises NARA on the full range of programs, policies, and plans for the Center for Legislative Archives in the Office of Legislative Archives, Presidential Libraries, and Museum Services (LPM).

DATES: The meeting will be held on December 9, 2013, from 10 a.m. to 11:30 a.m.

ADDRESSES: National Archives, 700 Pennsylvania Ave. NW., Room 105

SUPPLEMENTARY INFORMATION:

Agenda

(1) Chair's Opening Remarks—Clerk of the U.S. House of Representatives

(2) Recognition of Co-chair—Secretary of the U.S. Senate

(3) Recognition of the Archivist of the United States

(4) Approval of the minutes of the last meeting

(5) Senate Archivist's report—Karen Paul

(6) House Archivist's report—Robin Reeder

(7) Center Update—Richard Hunt

(8) Other current issues and new business

The meeting is open to the public.

FOR FURTHER INFORMATION CONTACT: Center for Legislative Archives (202) 357-5350, Sharon Fitzpatrick for NARA location: sharon.fitzpatrick@nara.gov.

Dated: November 25, 2013.
Patrice Murray,
Acting Committee Management Officer.

[FR Doc. 2013-28691 Filed 11-27-13; 8:45 am]

BILLING CODE 7515-01-P